FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011741-008.

Title: U.S. Pacific Coast-Oceania Agreement.

Parties: A.P. Moller-Maersk A/S; Australia-New Zealand Direct Line/CP Ships USA, LLC; FESCO Ocean Management Limited; Hamburg-Süd; and P&O Nedlloyd Limited/P&O Nedlloyd B.V.

Filing Party: Wayne R. Rohde, Esq.; Sher & Blackwell; 1850 M Street, NW.; Suite 900; Washington, DC 20036.

Synopsis: The amendment removes the P&O Nedlloyd companies as parties, changes Maersk's trade name throughout, and deletes obsolete language.

Agreement No.: 011910-002.

Title: HSDG/APL Space Charter Agreement.

Parties: Hamburg-Süd and APL Co. PTE Ltd.

Filing Party: Wayne R. Rohde, Esq.; Sher & Blackwell LLP; 1850 M Street, NW.; Suite 900; Washington, DC 20036.

Synopsis: The amendment extends the duration of the agreement through April 12, 2007.

Agreement No.: 011926-001.

Title: Transpacific Space Charter Agreement.

Parties: CMA CGM, S.A. and COSCO Container Lines Co., Ltd.

Filing Party: Paul M. Keane, Esq.; Cichanowicz, Callan, Keane, Vengrow & Textor, LLP; 61 Broadway; Suite 3000; New York, NY 10006-2802.

Synopsis: The amendment extends the duration of the agreement through April 22, 2006.

By Order of the Federal Maritime Commission.
Dated: March 10, 2006.
Bryant L. VanBrakle,
Secretary.

[FR Doc. E6-3757 Filed 3-14-06; 8:45 am]

BILLING CODE 6730-01-P